DEPARTMENT OF INTERIOR

National Park Service

Warner Valley Comprehensive Site Plan; Lassen Volcanic National Park, Plumas County, CA; Notice of Availability of Draft Environmental Impact Statement

Summary: Pursuant to § 102(2)(C) of the National Environmental Policy Act of 1969 (Pub. L. 81-190 as amended), the National Park Service (NPS), Department of Interior, has prepared a Draft Environmental Impact Statement (DEIS) for the Warner Valley Comprehensive Site Plan. This conservation planning effort has four main objectives: (1) Improving visitor experience and enhancing public safety through improvements to infrastructure and relocating infrastructure so it is less visible; (2) Ecological restoration of Warner Valley fen and wetland areas; (3) Removal or repair of Dream Lake Dam and restoration of associated riparian/wetland complex; (4) Protect and enhance the Drakesbad Historic District through removal of non-contributing structures and functions. The DEIS evaluates alternative methods for accomplishing ecological restoration and cultural resource protection; appropriate mitigation measures are incorporated, and an “environmentally preferred” course of action is identified. The two “action” alternatives are based upon information gained during extensive public scoping, and adhere to 2006 Management Policies and applicable laws.

Background: Warner Valley is located in the south central part of the Lassen Volcanic National Park and encompasses a 400-acre project planning area. The Warner Valley area includes Dream Lake Dam, built in 1932 by Alex Sifford and which impounds an approximately 2.7 acre lake. The center of the valley features a large meadow that contains one of the largest known fens in the Sierra Nevada and Cascade mountains. The upper valley area was originally developed for cattle ranching in the late 1800's by E.R. Drake, who initiated efforts to ditch and dry out the wet meadow to improve the grazing for cattle. In 1900, Mr. Drake sold Warner Valley to the Sifford family who focused on developing a summer guest ranch for the next 50 years. The Siffords built the 10 historic structures which now form the core of Drakesbad Guest Ranch Historic District (both Dream Lake and the meadow are contributing features). This transformed the overnight accommodations from tent camping near hot springs into a guest ranch. The Siffords also developed or improved trails, created a hot spring fed pool, constructed corrals, dewatered the meadow, and built the dam to enhance recreational opportunities for their guests. In 1958 the guest ranch and land were sold to the NPS; the Guest Ranch continues today as a concession operated by California Guest Services.

The current Drakesbad wetland conditions include a fen which is drying out and ceasing to function as a fen, and Dream Lake which has submersed a natural wetland. The Historic District has accumulated with features and structures which diminishes its historic character. Lack of clearly demarcated parking impacts natural resources by allowing car traffic to encroach in sensitve areas. Hikers traveling the Pacific Crest Trail must walk on the unimproved Warner Valley Road, which also bifurcates the nearby campground.

Range of Alternatives: This DEIS describes and analyzes a No Action alternative (Alternative 1, which would continue current management practices) and two “action” alternatives. Alternatives 2 and 3 contain a varying mix of three major components: (1) Improving visitor experience and safety through improving or relocating non-contributing infrastructure so it has less impact on visitor experience and historic district qualities; (2) ecological restoration of wetlands including Drakesbad fen, the larger Warner Valley fen wetland, and Dream Lake riparian/wetland complex; (3) Protect and enhance the Historic District by removing non-contributing structures and functions. Both of the “action” alternatives include the following “common” elements:

• Move concession employee housing, storage, generator, and propane tanks out of the Historic District and into a new service area.

• Create a Pacific Crest Trail connection so hikers may avoid using the Warner Valley road.

• Renovate and slightly expand the non-historic bathhouse adjacent to the swimming pool.

• Reduce parking sprawl by replacing inadequate wheel stops.

• Minor changes to the campground and fee station location, including relocation of the day use/trailhead parking from a meadow to the campground.

Alternative 2 (agency-preferred) components include:

• Ecological restoration of Warner Valley fen through permanently filling ditches with appropriate soil and native material.

• Creating a concession housing and service center outside of the Historic District composed of tent cabins surrounding a single-story bathroom building.

• Removal of Dream Lake Dam and allowing the area to revert to a riparian/wetland complex.

Alternative 3 includes:

• Restoration of Warner Valley fen through selective damming of ditches.

• Creating a concession housing and service center outside the Drakesbad Historic District composed of a two-story dormitory building with bathrooms.

• Reconstruct Dream Lake Dam to Bureau of Reclamation engineering standards.

Scoping and Public Involvement: A preliminary scoping effort for the Warner Valley comprehensive plan was initiated on June 1, 2004, with posting of a request at the Drakesbad Guest Ranch Lodge for comments about potential future management options for the upper valley area. Public meetings for the Warner Valley Comprehensive Site Plan were held during June 13-15, 2005, in Red Bluff, Chester, and Vacaville. Meeting announcements were printed in the Red Bluff Daily News, Chester Progressive, Redding Record Searchlight, and the Sacramento Bee (20 additional media outlets, including newspaper, radio stations, and television stations were also notified). The formal scoping phase was initiated on June 24, 2005, with publication in the Federal Register of the Notice of Intent to prepare an EIS. Approximately 700 public scoping announcements were distributed including details of date, time, and location of the public open houses. These outreach activities elicited information from individuals, agencies, and organizations which aided the alternatives formulation and environmental impact analysis processes.

Previously, public scoping meetings were held for the Dream Lake Dam Management Plan during November 4-7, 2002, in the Chico, Red Bluff, Redding, and Chester. The same media outlets mentioned above were notified. Formal public scoping for the original Dream Lake Dam Management Plan was initiated on April 4, 2003, with publication of a Notice of Intent to prepare an EIS in the Federal Register. This initial conservation planning effort was expanded into the broader Warner Valley Comprehensive Site Plan as it became apparent that separate planning projects would be more time consuming to accomplish. All comments obtained throughout the extended scoping effort have been fully considered in preparing this DEIS.

Comments: The DEIS will be sent to affected Federal, Tribal, State, and local government agencies, to interested parties, and all those requesting copies (specify compact disc or paper format). The document will be available at park headquarters and at local public libraries, and will also be posted on the Lassen Volcanic National Park Web site (http://www.nps.gov/lavo) and on the NPS Planning, Environment and Public Comment Web site (http://parkplanning.nps.gov/lavo). All written comments must be postmarked or transmitted not later than November 21, 2009. Periodically updated project information will be announced via regional and local press media and posted on the project Web sites.

Written comments may be submitted by letter to Lassen Volcanic National Park, Warner Valley DEIS, P.O. Box 100, Mineral, CA 96063 (or may be transmitted electronically to http://parkplanning.nps.gov/lavo). Public meetings will be hosted in Chester, Anderson and Vacaville during September 2-9, 2009; details including time and location will be posted on the Lassen Volcanic National Park Web site (see above). Questions regarding status of project planning may be directed to Sean Eagan (530.595.4444 ext 5176 or via e-mail sean_eagan@nps.gov).

All comments are maintained in the project's administrative record and will be available for public review at Lassen Volcanic National Park Headquarters. Before including your address, phone number, e-mail address, or other personal identifying information in your comment, you should be aware that your entire comment—including your personal identifying information—may be made publicly available at any time. While you can ask us in your comments to withhold your personal identifying information from public review, we cannot guarantee that we will be able to do so.

Decision Process: Following careful analysis of all comments as may be forthcoming in response to the DEIS, at this time it is anticipated that the Final EIS would be completed in November 2009. The availability of the final document will be similarly announced in the Federal Register, and also publicized via local and regional press media, direct mailings, and Web site postings. No sooner than thirty days after the distribution of the Final EIS a Record of Decision may be executed. As a delegated EIS the approving official responsible for the final decision is the Regional Director, Pacific West Region. Subsequently, the official responsible for implementing the approved Comprehensive Site Plan will be the Superintendent, Lassen Volcanic National Park.

Dated: May 13, 2009.
Jonathan B. Jarvis,
Regional Director, Pacific West Region.

[FR Doc. E9-20437 Filed 8-24-09; 8:45 am]

BILLING CODE 4312-60-P